DEPARTMENT OF TRANSPORTATION

Federal Aviation Administration

14 CFR Part 39

[Docket No. 2000-SW-54-AD; Amendment 39-12105; AD 2001-01-51]

RIN 2120-AA64

Airworthiness Directives; Bell Helicopter Textron Canada Model 222, 222B, 222U, 230, and 430 Helicopters

AGENCY: Federal Aviation Administration, DOT.

ACTION: Final rule; request for comments.

SUMMARY: This document publishes in the Federal Register an amendment adopting Airworthiness Directive (AD) 2001-01-51, which was sent previously to all known U.S. owners and operators of Bell Helicopter Textron Canada (BHTC) Model 222, 222B, 222U, 230, and 430 helicopters by individual letters. This AD requires visually inspecting the main rotor hydraulic actuator support (support) to verify the presence of all dowel pins and sealant between the support and transmission and verifying the proper torque of each attaching nut (nut). This amendment is prompted by the failure of a support resulting in an accident of a BHTC Model 222U helicopter. All retaining studs and shear pins were found sheared or pulled out at the junction between the support and the transmission case. The actions specified by this AD are intended to prevent failure of the support and subsequent loss of control of the helicopter.

DATES: Effective March 2, 2001, to all persons except those persons to whom it was made immediately effective by Emergency AD 2001-01-51, issued on January 5, 2001, which contained the requirements of this amendment.

The incorporation by reference of certain publications listed in the regulations is approved by the Director of the Federal Register as of March 2, 2001.

Comments for inclusion in the Rules Docket must be received on or before April 16, 2001.

ADDRESSES: Submit comments in triplicate to the Federal Aviation Administration (FAA), Office of the Regional Counsel, Southwest Region, Attention: Rules Docket No. 2000-SW-54-AD, 2601 Meacham Blvd., Room 663, Fort Worth, Texas 76137. You may also send comments electronically to the Rules Docket at the following address: 9-asw-adcomments@faa.gov.

The applicable service information may be obtained from Bell Helicopter Textron Canada, 12,800 Rue de l'Avenir, Mirabel, Quebec JON1LO, telephone (450) 437-2862 or (800) 363-8023, fax (450) 433-0272. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Jim Grigg, Aviation Safety Engineer, FAA, Rotorcraft Directorate, Regulations Group, Fort Worth, Texas 76193-0111, telephone (817) 222-5490, fax (817) 222-5961.

SUPPLEMENTARY INFORMATION: On January 5, 2001, the FAA issued Emergency AD 2001-01-51 for BHTC Model 222, 222B, 222U, 230, and 430 helicopters which requires visually inspecting the support to verify the presence of all dowel pins and sealant between the support and the transmission and verifying the proper torque of each nut. That action was prompted by the failure of a support resulting in an accident of a BHTC Model 222U helicopter. All retaining studs and shear pins were found sheared or pulled out at the junction between the support and the transmission case. This condition, if not detected, could result in failure of the support and subsequent loss of control of the helicopter.

The FAA has reviewed BHTC Alert Service Bulletin Nos. 222-00-86, 222U-00-57, 230-00-18, and 430-00-17, all dated May 19, 2000 (ASB's), which specify, within 25 hours time-in-service (TIS), conducting a one-time inspection of the support installation by accomplishing a torque check of the nuts. In addition, a revision to the maintenance manual will introduce a recurring torque check of the nuts. Transport Canada, which is the airworthiness authority for Canada, classified these ASB's as mandatory and issued AD No. CF-2000-29 dated September 6, 2000, to ensure the continued airworthiness of these helicopters in Canada.

Since the unsafe condition described is likely to exist or develop on other BHTC Model 222, 222B, 222U, 230, and 430 helicopters of the same type designs, the FAA issued Emergency AD 2001-01-51 to prevent failure of the support and subsequent loss of control of the helicopter. The AD requires, at specified time intervals, visually inspecting the support to verify the presence of all dowel pins and sealant between the support and transmission and verifying the proper torque of each nut. Repairing or replacing any unairworthy support, transmission case, stud, or dowel pin and retorquing to proper torque are required before further flight. The actions must be accomplished in accordance with the ASB's described previously. The short compliance time involved is required because the previously described critical unsafe condition can adversely affect the structural integrity of the helicopter. Therefore, the actions previously listed are required within 25 hours TIS, and this AD must be issued immediately.

Since it was found that immediate corrective action was required, notice and opportunity for prior public comment thereon were impracticable and contrary to the public interest, and good cause existed to make the AD effective immediately by individual letters issued on January 5, 2001, to all known U.S. owners and operators of BHTC Model 222, 222B, 222U, 230, and 430 helicopters. These conditions still exist, and the AD is hereby published in the Federal Register as an amendment to section 39.13 of the Federal Aviation Regulations (14 CFR 39.13) to make it effective to all persons.

The FAA estimates that 145 helicopters of U.S. registry will be affected by this AD, that it will take approximately ½ work hour per helicopter to inspect for proper torque, and that the average labor rate is $60 per work hour. The cost for the inspection is estimated to be $4,350. Assuming 15 helicopters require removing the support for additional inspections, it would take approximately 6 additional work hours at $60 per work hour and $50 for parts at an additional total cost of $410 per helicopter. Based on these figures, the total cost impact of this AD on U.S. operators is estimated to be $10,500, assuming no supports have to be replaced.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2000-SW-54-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2001-01-51 Bell Helicopter Textron Canada: Amendment 39-12105. Docket No. 2000-SW-54-AD.

Applicability: Model 222, 222B, 222U, 230, and 430 helicopters, with a main rotor hydraulic actuator support (support), part number (P/N) 222-040-125-001, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (c) of this AD. The request should include an assessment of the effect of the modification, alteration, or repair on the unsafe condition addressed by this AD; and if the unsafe condition has not been eliminated, the request should include specific proposed actions to address it.

Compliance: Required as indicated, unless accomplished previously.

To prevent failure of the support and subsequent loss of control of the helicopter, accomplish the following:

(a) Within 25 hours TIS and thereafter at intervals not to exceed 600 hours TIS, accomplish the following:

(1) Visually inspect the support for the presence of all dowel pins and for sealant between the support and the transmission. If any pin is missing, or if no sealant is visible, before further flight, remove the support and further inspect the support, transmission case, studs, and dowel pins in accordance with the Accomplishment Instructions, paragraphs 5 through 7, of the applicable Bell Helicopter Textron Alert Service Bulletin Nos. 222-00-86, 222U-00-57, 230-00-18, or 430-00-17, all dated May 19, 2000 (ASB's). Repair or replace any unairworthy support, transmission case, stud, or dowel pin before further flight.

(2) Verify the torque of the support attaching nuts (nuts). Upper nuts must not rotate at a torque less than 40 in-lbs. Lower nuts must not rotate at a torque less than 90 in-lbs.

(i) If two or more upper nuts rotate at a torque less than 40 in-lbs. or two or more lower nuts rotate at a torque less than 90 in-lbs., before further flight, remove the support and further inspect the support, transmission case, studs, and dowel pins in accordance with the Accomplishment Instructions, paragraph 5 through 7, of the applicable ASB's. Repair or replace any unairworthy support, transmission case, stud, or dowel pin before further flight.

(ii) If less than two upper nuts rotate at a torque less than 40 in-lbs. or less than two lower nuts rotate at a torque less than 90 in-lbs., before further flight, retorque the upper nut to 50 to 70 in-lbs. plus tare and the lower nut to 100 to 140 in-lbs. plus tare.

(b) At not less than 20 hours TIS nor more than 30 hours TIS after reinstalling a support for any reason, verify the torque of the nuts in accordance with paragraph (a)(2) of this AD.

(c) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Regulations Group.

(d) Special flight permits may be issued in accordance with 14 CFR 21.197 and 21.199 to operate the helicopter to a location where the requirements of this AD can be accomplished.

(e) The inspections shall be done in accordance with the Accomplishment Instructions, paragraphs 5 through 7, of the applicable Bell Helicopter Textron Alert Service Bulletin Nos. 222-00-86, 222U-00-57, 230-00-18, or 430-00-17, all dated May 19, 2000. This incorporation by reference was approved by the Director of the Federal Register in accordance with 5 U.S.C. 552(a) and 1 CFR part 51. Copies may be obtained from Bell Helicopter Textron Canada, 12,800 Rue de l'Avenir, Mirabel, Quebec JON1LO, telephone (450) 437-2862 or (800) 363-8023, fax (450) 433-0272. Copies may be inspected at the FAA, Office of the Regional Counsel, Southwest Region, 2601 Meacham Blvd., Room 663, Fort Worth, Texas; or at the Office of the Federal Register, 800 North Capitol Street, NW., suite 700, Washington, DC.

(f) This amendment becomes effective on March 2, 2001, to all persons except those persons to whom it was made immediately effective by Emergency AD 2001-01-51, issued January 5, 2001, which contained the requirements of this amendment.

Note 3: The subject of this AD is addressed in Transport Canada (Canada) AD CF-2000-29, dated September 6, 2000.

Issued in Fort Worth, Texas, on February 2, 2001.
Eric Bries,
Acting Manager, Rotorcraft Directorate, Aircraft Certification Service.

[FR Doc. 01-3561 Filed 2-14-01; 8:45 am]

BILLING CODE 4910-13-U